NATIONAL SCIENCE FOUNDATION

National Science Board Commission on 21st Century Education in Science, Technology, Engineering, and Mathematics; Notice of Meeting

In accordance with the Federal Advisory Committee Act (Pub. L. 92-463, as amended), the National Science Board announces the following meeting:

Date and Time: Friday, December 22, 2006, 11 a.m.-12:30 p.m. EST (teleconference meeting)

Place: National Science Foundation, Arlington, Virginia, Room 1235 will be available to the public to listen to this teleconference meeting.

Type of Meeting: Open.

Contact Person: Dr. Elizabeth Strickland, Commission Executive Secretary, National Science Board Office, National Science Foundation, 4201 Wilson Blvd, Arlington, VA 22230. Telephone: 703-292-4527. E-mail: estrickl@nsf.gov.

Purpose of Meeting: To discuss preliminary draft recommendations of the Commission.

Agenda: Discussion of preliminary draft recommendations of the Commission.

Reason for Late Notice: Time and date of meeting were not established until December 12, 2006.

Russell Moy,
Attorney-Advisor.

[FR Doc. E6-21618 Filed 12-19-06; 8:45 am]

BILLING CODE 7555-01-P